DEPARTMENT OF JUSTICE

Antitrust Division

Notice Pursuant to the National Cooperative Research and Production Act of 1993—AAF Association, Inc.

Notice is hereby given that, on March 28, 2000, pursuant to section 6(a) of the National Cooperative Research and Production Act of 1993, 15 U.S.C. 4301 et seq. (“the Act”), AAF Association, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Avid Technology, Tewksbury, MA; British Broadcasting Corporation, Tadworth, Surrey, UNITED KINGDOM; CNN/Turner Broadcasting Systems, Atlanta, GA; Discreet Logic, Montreal, CANADA; Matrox, Quebec, CANADA; Microsoft Corporation, Playa Del Rey, CA; Sony Corporation, San Jose, CA; Pinnacle, Mountain View, CA; Quantel, Newbury, Berkshire, UNITED KINGDOM; U.S. National Imaging & Mapping Agency, Reston, VA; and 4MC, Burbank, CA. The nature and objectives of the venture are to promote the development and adoption of open, accessible standards and specifications relating to file interchange formats, including initially the Advanced Authoring Format (collectively, the “Specifications”); to promote such Specifications worldwide; to provide for testing and conformity assessment of implementations in order to ensure compliance with Specifications; to create and own distinctive trademarks; if advisable, to operate a branding program to create high customer awareness of, demand for, and confidence in products designed in compliance with Specifications; and to undertake such other activities as may from time to time be appropriate to further the purposes and achieve the goals set forth above.

Constance K. Robinson,
Director of Operations, Antitrust Division.

[FR Doc. 00-16467 Filed 6-28-00; 8:45 am]

BILLING CODE 4410-11-M